Title 3—

The President

Executive Order 13461 of February 15, 2008

Providing an Order of Succession Within the Department of Health and Human Services

By the authority vested in me as President by the Constitution and the laws of the United States of America, including the Federal Vacancies Reform Act of 1998, 5 U.S.C. 3345 et seq., it is hereby ordered that:

Section 1. Subject to the provisions of section 3 of this order, the officers named in section 2, in the order listed, shall act as and perform the functions and duties of the Office of the Secretary of Health and Human Services (Secretary), if they are eligible to act as Secretary under the provisions of the Federal Vacancies Reform Act of 1998, during any period in which the Secretary has died, resigned, or become otherwise unable to perform the functions and duties of the office of Secretary.

Sec. 2. Order of Succession.

(a) Deputy Secretary of Health and Human Services;

(b) General Counsel of the Department of Health and Human Services;

(c) Assistant Secretary (Resources and Technology);

(d) Assistant Secretary (Planning and Evaluation);

(e) Administrator of the Centers for Medicare and Medicaid Services;

(f) Commissioner of Food and Drugs;

(g) Director of the National Institutes of Health;

(h) Assistant Secretary for Family Support;

(i) Other Assistant Secretaries of the Department of Health and Human Services appointed by the President, in the order in which they shall have taken the oath of office as such;

(j) Director, Centers for Disease Control and Prevention; and

(k) Director, Region 4.

Sec. 3. Exceptions.

(a) No individual who is serving in an office listed in section 2 of this order in an acting capacity, by virtue of so serving, shall act as Secretary pursuant to this order.

(b) Notwithstanding the provisions of this order, the President retains discretion, consistent with the Federal Vacancies Reform Act of 1998, to depart from this order in designating an acting Secretary.

Sec. 4. Revocation. Executive Order 13250 of December 28, 2001 (Providing An Order of Succession Within the Department of Health and Human Services), and the President's memorandum of March 19, 2002 (Designation of Officers of the Department of Health and Human Services), are hereby revoked.

THE WHITE HOUSE,

February 15, 2008.

[FR Doc. 08-797

Filed 2-19-08; 8:50 am]

Billing code 3195-01-P